DEPARTMENT OF VETERANS AFFAIRS

[OMB Control No. 2900-NEW]

Agency Information Collection (Evaluation of the Department of Veterans Affairs Mental Health Services) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before November 6, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Evaluation of the Department of Veterans Affairs Mental Health Services) in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Veterans, Researchers, and IRB Members Experiences with Recruitment Restrictions)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION: Titles: Evaluation of the Department of Veterans Affairs Mental Health Services.

OMB Control Number: 2900-NEW.

Type of Review: New Collection Request.

Abstract: This is a congressionally-mandated research study to evaluate mental health services provided by the Department of Veteran Affairs (VA). Congress directed the VA to conduct a survey of veterans with assistance from the Institute of Medicine (IOM) of the National Academies. Attachment 1 contains the authorizing legislation, the National Defense Authorization Act for Fiscal Year 2013, Section 726.

Following the large number of deployments and operations in Iraq and Afghanistan, the number of military members with mental health problems has been rising. All Veterans who need mental health services do not seek them it or receive them from the Department of Veterans Affairs (VA) health care system. This study is to assess barriers to receiving mental health care services among veterans.

Affected Public: Individuals or Households.

Estimated Annual Burden: 5,192 burden hours.

Estimated Average Burden per Respondent: 35 minutes.

Frequency of Response: Annually.

Estimated Number of Respondents: 8,900.

By direction of the Secretary.
Kathleen M. Manwell,
Program Analyst, VA Privacy Service, Office of Privacy and Records Management, Department of Veterans Affairs.

[FR Doc. 2015-25431 Filed 10-6-15; 8:45 am]

BILLING CODE 8320-01-P